DEPARTMENT OF ENERGY

Annual Public Meeting of the Interagency Steering Committee on Multimedia Environmental Modeling

AGENCY: Office of Environmental Management, Department of Energy.

ACTION: Notice of meeting.

SUMMARY: The annual public meeting of the Federal Interagency Steering Committee on Multimedia Environmental Modeling (ISCMEM) will convene to discuss the latest developments in environmental modeling applications, tools and frameworks as well as new operational initiatives for FY 2013 among the participating agencies. The meeting will be hosted by the U.S. Geological Survey, one of the participants in the ISCMEM, at its headquarters facility in Reston, VA. The meeting is open to the public and all interested parties may attend.

DATES: November 7 and 8, 2012, from 8:30 a.m. to 5:30 p.m., EST and November 9, 2012, from 8:30 a.m. to noon, EST.

ADDRESSES: U.S. Geological Survey, 12201 Sunrise Valley Drive, Reston, Virginia.

FOR FURTHER INFORMATION CONTACT: Pre-registration may be accomplished through the ISCMEM public Web site: http://iemhub.org/topics/iscmem. Instructions for registration through the Web site may be requested by email to Whelan.Gene@epamail.epa.gov. Other inquiries and notice of intent to attend the meeting may be faxed or emailed to: Dr. Ming Zhu, ISCMEM Chair, U.S. Department of Energy, Office of Environmental Management, 1000 Independence Ave. SW., Washington, DC 20585, Tel 301-903-9240, Fax 301-903-4307, Ming.Zhu@em.doe.gov.

SUPPLEMENTARY INFORMATION: Background: In 2001 six Federal agencies began formal cooperation under a Memorandum of Understanding (MOU) on the research and development of multimedia (i.e. air, soil, water) environmental models. This MOU established the Federal Interagency Steering Committee on Multimedia Environmental Modeling (ISCMEM). The MOU was revised and renewed in 2006 and 2011. The MOU establishes a framework for facilitating cooperation and coordination among research organizations in the participating agencies. So far, six agencies have signed the current renewal of the MOU: The U.S. Army Corps of Engineers (Engineer Research and Development Center); the U.S. Department of Energy (Office of Environmental Management); the U.S. Department of Interior (U.S. Geological Survey); the U.S. Environmental Protection Agency (Office of Research and Development); the U.S. National Science Foundation (Geosciences Directorate); and the U.S. Nuclear Regulatory Commission (Office of Nuclear Regulatory Research). Other agencies are still reviewing the revised MOU.

In ISCMEM, agencies work to cooperate and coordinate in the research and development of all aspects of multimedia environmental modeling. This includes development and enhancements of software, databases, and interoperability. It includes applications and assessment of site specific, generic, and process-oriented multimedia environmental models as they pertain to human and environmental health risk assessment. Multimedia environmental model development and simulation supports interagency interests in risk assessment, uncertainty analyses, and management of geologic, hydrologic, atmospheric, terrestrial, and ecological resources. The topics to be discussed this year focus on: (1) Development of frameworks and platforms; (2) subsurface biogeochemical studies; (3) cyber-water research program; and (4) integration modeling for national weather services, water resources management, and surface water and ecological systems.

Purpose of the Public Meeting: The annual public meeting provides an opportunity for the scientific community, ISCMEM members and other Federal and State agencies, and the public to discuss ISCMEM activities and their initiatives for the upcoming year, and to discuss technological advancements in multimedia environmental modeling.

Proposed Agenda: The ISCMEM Chair will open the meeting with a brief overview of the goals of the MOU and an update on current activities and future plans of ISCMEM. This introduction will be followed by a series of invited technical presentations for the remainder of the first day and for the entire second day, focusing on topics of mutual interest to ISCMEM participants. The steering committee will hold an open business session on the morning of the third day. A detailed agenda with presentation titles and speakers will be posted on the ISCMEM public Web site: http://iemhub.org/topics/iscmem. The agenda and instructions for registration will also be available through the list of public meetings on the US Nuclear Regulatory Commission Web site at http://www.nrc.gov/public-involve/public-meetings.html.

Meeting Access: The meeting facility at the U.S. Geological Survey Headquarters is located at 12201 Sunrise Valley Drive, Reston, VA, near the Washington Dulles International Airport. Directions to the U.S. Geological Survey Headquarters can be found on its Web site at http://www.usgs.gov/visitors/directions.asp. The most convenient transportation to the meeting venue is via automobile. There is free visitor parking at the U.S. Geological Survey facility. The meeting facility is wheel-chair accessible. Please allow time to register with building security and bring two photo ID's. Direct access to the meeting facility is available on the same level and near the visitor security check-in. Please pre-register through the Web site listed above under FOR FURTHER INFORMATION CONTACT or via the agency contact information. Please follow signs for the ISCMEM public meeting.

Ming Zhu,
Chair, Federal Interagency Steering Committee on Multimedia Environmental Modeling.

[FR Doc. 2012-24982 Filed 10-10-12; 8:45 am]

BILLING CODE 6450-01-P